DEPARTMENT OF TRANSPORTATION

Pipeline and Hazardous Materials Safety Administration

49 CFR Part 192

[Docket No. PHMSA-2016-0067]

Pipeline Safety: Guidance on Training and Qualifications for the Integrity Management Program

AGENCY: Pipeline and Hazardous Materials Safety Administration (PHMSA), DOT.

ACTION: Issuance of advisory bulletin.

SUMMARY: The Pipeline and Hazardous Materials Safety Administration (PHMSA) published the gas transmission pipeline integrity management (IM) rule in the Federal Register on December 15, 2003. This rule, in part, established requirements for supervisory and other personnel with IM program functions. PHMSA has recognized inconsistencies in how the requirements have been implemented by operators and is issuing this Advisory Bulletin to remind operators of their responsibility to include qualification requirements for IM personnel, as required by PHMSA regulations and discussed in the American Society of Mechanical Engineers (ASME) ASME B31.8S-2004.

DATES: April 10, 2017.

FOR FURTHER INFORMATION CONTACT: Nancy White by phone at 202-366-1419 or email nancy.white@dot.gov. All materials in this docket are electronically accessible at http://www.regulations.gov. Information about PHMSA is available at http://www.phmsa.dot.gov.

SUPPLEMENTARY INFORMATION:

I. Background

PHMSA has long recognized and communicated the critical importance of training and qualifications for operator personnel who perform tasks related to pipeline safety. For example, in 1999 PHMSA adopted general qualification requirements for all individuals performing covered tasks under § 192.805. PHMSA established specific qualification requirements for supervisory and other personnel with IM-assigned tasks under § 192.915 as part of the gas transmission pipeline IM rule (December 15, 2003, 68 FR 69777). Specifically, PHMSA requires IM programs to assure certain persons have appropriate training or experience to be considered qualified for their areas of responsibility. These requirements apply to operator and contractor personnel (contractors, suppliers, vendors, etc.) who perform certain IM-related tasks.

For supervisory personnel, § 192.915 requires that the IM program must ensure that:

• Each supervisor whose responsibilities relate to the IM program possess and maintain a thorough knowledge of the IM program and the elements for which the supervisor is responsible; and

• Any person who qualifies as a supervisor for the IM program has appropriate training or experience in the area for which that person is responsible.

For personnel performing IM-assigned tasks, the rule requires an operator's IM program to provide criteria for their training and qualifications. The elements of IM covered under § 192.915 apply to individuals who:

• Conduct assessments;

• Review and analyze results from integrity assessments; or

• Make decisions on actions to be taken based on these assessments.

The program must also include criteria for the qualification of individuals who:

• Implement preventive measures and mitigative measures to carry out the requirements of the rule, including the marking and locating of buried structures; or

• Directly supervise excavation work carried out in conjunction with an integrity assessment.

II. Advisory Bulletin (ADB-2017-02)

To: Owners and Operators of Natural Gas Transmission Pipelines

Subject: Guidance on Training and Qualifications for the Integrity Management Program

Advisory: PHMSA is issuing this Advisory Bulletin to remind operators of natural gas transmission pipelines of PHMSA's expectations regarding how mature IM programs should implement the training and qualification requirements included in § 192.915 and discussed in ASME B31.8S-2004. PHMSA's expectations for operator implementation of each subsection in § 192.915 are outlined as follows:

Section 192.915—“What knowledge and training must personnel have to carry out an integrity management program?”

• This rule requires operator personnel involved in the IM program to be qualified for their assigned responsibilities, including the following:

○ Personnel qualification requirements must be identified for anyone involved in the IM program. This applies to both operator and contractor personnel (contractors, suppliers, vendors, etc.);

○ Qualification criteria must include minimum requirements for experience or training in order to verify individuals have the knowledge and skills necessary to perform IM-related tasks; and

○ The operator must determine whether qualifications are current.

• The rule requires operators to verify that the personnel who execute activities within the IM program are qualified in accordance with the quality assurance process required by § 192.911(l).

• Documentation of qualification must be maintained in accordance with the operator's IM program.

Section 192.915(a)—“Supervisory Personnel”

The regulation covers qualification and training requirements for supervisory personnel with responsibilities in an IM program.

• This rule requires operators to verify that the IM program requires supervisory personnel to have the appropriate training or experience for their assigned responsibilities, including the following:

○ Personnel with supervisory authority that relates to the operator's IM process must meet documented qualification requirements for the aspects of the IM program that fall under their authority;

○ Qualification requirements must include minimum requirements for experience or training to verify individuals have the knowledge to perform IM-related tasks; and

○ Tracking of qualification deficiencies and requalification requirements is essential to verify that individuals in supervisory positions are qualified.

Section 192.915(b)—“Persons who Carry out Assessments and Evaluate Assessment Results”

The regulation covers qualification requirements for personnel performing certain IM tasks related to the conduct of integrity assessments, analysis of integrity assessment results, and the decisions on actions to be taken based on integrity assessments.

• This rule requires operators to verify the IM program requires qualification of personnel who carry out assessments and evaluate assessment results, including the following:

○ Personnel who carry out or evaluate assessment information must meet documented qualification requirements—this applies to both operator and contractor personnel.

○ Qualification requirements must include minimum requirements for experience or training to verify that individuals have the knowledge and skills necessary to perform IM-related tasks, including analysis, data integration, integrity assessments, and assessment results evaluation.

○ Qualification requirements must be established for all tasks necessary to carry out integrity assessments and evaluate assessment results, including:

Performing the integrity assessment;

Evaluating the results of the integrity assessment;

Integrating any other available information or data gathered in accordance with § 192.917(b) that is applicable to the covered segment being assessed; and

Deciding on actions to be taken based on these assessments.

○ The operator is responsible for verifying the qualifications of contractor personnel who conduct essential tasks in performing or evaluating assessments.

Section 192.915(c)—“Persons Responsible for Preventive and Mitigative Measures”

The regulation covers qualification requirements for personnel who implement preventive and mitigative measures and who supervise excavation work carried out in conjunction with an integrity assessment.

• This rule mandates that operators verify their IM program requires qualification of personnel who participate in implementing preventive measures and mitigative measures, including: (1) Personnel who mark and locate buried structures, (2) personnel who directly supervise integrity assessment excavation work, and (3) other personnel who participate in implementing preventive measures and mitigative measures.

○ Personnel who implement preventive measures and mitigative measures may hold a range of job positions, including (but not limited to): Management and technical personnel, risk evaluators, operators, excavation crews, welders, and pipeline safety engineers. With respect to these personnel, the rule requires that operators:

Define the roles and responsibilities of personnel implementing preventive measures and mitigative measures;

Define the qualification requirements as they relate to implementing preventive measures and mitigative measures; and

Verify personnel satisfy the defined qualification requirements.

• The rule requires that qualification requirements be established for all tasks required to implement preventive measures and mitigative measures, including:

○ Marking and locating buried structures;

○ Supervising integrity assessment excavation work; and

○ Applying risk assessment results to determine what additional preventive measures and mitigative measures need to be implemented for the covered segment being assessed in accordance with § 192.917(c).

PHMSA inspectors will use this Advisory Bulletin to clarify the intent of existing regulatory language when evaluating operator IM program personnel training and qualification effectiveness.

Issued in Washington, DC, on March 29, 2017, under authority delegated in 49 CFR 1.97.
Alan K. Mayberry,
Associate Administrator for Pipeline Safety.

[FR Doc. 2017-06805 Filed 4-7-17; 8:45 am]

BILLING CODE 4910-60-P